DEPARTMENT OF THE INTERIOR

Fish and Wildlife Service

[FWS-R1-ES-2008-N0141; 10120-1113-0000-F5]

Endangered Wildlife and Plants; Permits

AGENCY: Fish and Wildlife Service, Interior.

ACTION: Notice of receipt of application to amend permit; request for comments.

SUMMARY: We, the U.S. Fish and Wildlife Service (Service), invite the public to comment on the following application to amend an existing permit to conduct certain activities with endangered species.

DATES: We must receive your written data or comments by July 17, 2008.

ADDRESSES: Program Manager, Endangered Species, Ecological Services, U.S. Fish and Wildlife Service, 911 NE. 11th Avenue, Portland, OR 97232-4181.

FOR FURTHER INFORMATION CONTACT: Grant Canterbury, Fish and Wildlife Biologist, at the above address or by telephone (503-231-2063) or fax (503-231-6243).

SUPPLEMENTARY INFORMATION: The following applicant has applied to amend an existing scientific research permit to conduct certain activities with endangered species under section 10(a)(1)(A) of the Endangered Species Act (16 U.S.C. 1531 et seq.). We solicit review and comment from local, State, and Federal agencies and the public.

Permit No. TE-043638

Applicant: U.S. Army Natural Resources Center, Schofield Barracks, Hawaii

The applicant requests an amendment to an existing permit to remove/reduce to possession (collect pollen and seeds) Hedyotis coriacea (kio'ele) and to take (collect eggs, rear in captivity, capture adults, photograph, release, and collect voucher specimens) the Hawaiian picture-wing flies Drosophila aglaia, D. hemipeza, D. montgomeryi, D. obatai, D. substenoptera, and D. tarphytrichia, in conjunction with research on the island of Oahu, Hawaii, for the purpose of enhancing their survival. This permit currently covers removal and reduction to possession of Chamaescyce herbstii (akoko), Hesperomannia arbuscula (no common name), Phyllostegia kaalaensis (no common name), and Schiedea kaalae (no common name); and take of the Oahu tree snails (Achatinella spp.) and Oahu elepaio (Chasiempis sandwichensis ibidis), for which notices were originally published in the Federal Register on July 20, 2005 (70 FR 41786), August 6, 2006 (71 FR 47242), and November 16, 2007 (72 FR 64665).

Public Review of Comments

Please refer to the permit number for the application when submitting comments.

We solicit public review and comment on this recovery permit application. Before including your address, phone number, e-mail address, or other personal identifying information in your comment, you should be aware that your entire comment—including your personal identifying information—may be made publicly available at any time. While you can ask us in your comment to withhold your personal identifying information from public review, we cannot guarantee that we will be able to do so.

Comments and materials received will be available for public inspection, by appointment, during normal business hours at the above address.

Dated: May 23, 2008.
Ren Lohoefener,
Regional Director, Region 1, U.S. Fish and Wildlife Service.

[FR Doc. E8-13486 Filed 6-16-08; 8:45 am]

BILLING CODE 4310-55-P